ENVIRONMENTAL PROTECTION AGENCY

[EPA-HQ-OPP-2013-0266; FRL-9941-02-OCSPP]

Atrazine; Updated Proposed Mitigation for the Interim Registration Review Decision; Notice of Availability and Request for Comment

AGENCY: Environmental Protection Agency (EPA).

ACTION: Notice.

SUMMARY: The Environmental Protection Agency (EPA or Agency) is announcing the availability of and requesting comment on EPA's proposed updates to the mitigation in the interim registration review decision for atrazine (Case Number 0062). The updated mitigation proposal for atrazine reflected in the memorandum being released for comment incorporates the revised level of concern of 9.7 micrograms per liter (µg/L) as well as corrections to exposure modeling and feedback received during the 2022 public comment period. EPA is releasing its updated mitigation proposal to reduce run-off/erosion, which will expand the number of options of mitigation measures growers can choose to implement to reduce potential exposure and risk to aquatic plant communities from atrazine runoff in vulnerable watersheds. The proposal includes placing mitigations on the product labeling, directing users to EPA's mitigation menu website and to the Bulletins Live! Two system. The Agency is not soliciting comment on any other aspects of the atrazine interim registration review decision.

DATES: Comments must be received on or before February 3, 2025.

ADDRESSES: Submit your comments, identified by docket identification (ID) number EPA-HQ-OPP-2013-0266, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For pesticide specific information, contact: Alexander Hazlehurst, Chemical Review Manager, Pesticide Re-Evaluation Division (7508M), Office of Pesticide Programs, Environmental Protection Agency, 1200 Pennsylvania Ave. NW, Washington, DC 20460-0001; telephone number: (202) 566-2249; email address: hazlehurst.alexander@epa.gov.

For general information on the registration review program, contact: Melanie Biscoe, Pesticide Re-Evaluation Division (7508M), Office of Pesticide Programs, Environmental Protection Agency, 1200 Pennsylvania Ave. NW, Washington, DC 20460-0001; email address: biscoe.melanie@epa.gov.

SUPPLEMENTARY INFORMATION:

I. Executive Summary

A. Does this action apply to me?

This action is directed to the public in general and may be of interest to a range of stakeholders including environmental, human health, farm worker, and agricultural advocates; the chemical industry; pesticide users; and members of the public interested in the sale, distribution, or use of pesticides. Since others may be interested, the Agency has not attempted to describe all the specific entities. If you have any questions regarding the applicability of this action to a particular entity, consult the Chemical Review Manager listed under FOR FURTHER INFORMATION CONTACT.

B. What is the Agency's authority?

EPA is conducting its registration review of atrazine pursuant to section 3(g) of the Federal Insecticide, Fungicide, and Rodenticide Act (FIFRA), 7 U.S.C. 136a(g) and the regulations at 40 CFR part 155, subpart C. FIFRA section 3(g) provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

C. What is registration review?

Registration review is EPA's periodic review of pesticide registrations to ensure that each pesticide continues to satisfy the statutory standard for registration, that is, the pesticide can perform its intended function without unreasonable adverse effects on human health or the environment. Through this program, EPA is ensuring that each pesticide's registration is based on current scientific and other knowledge, including its effects on human health and the environment. EPA may pursue mitigation at any time during the registration review process if it finds that a pesticide has the potential to pose unreasonable adverse effects to human health or the environment.

D. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice—the just treatment and meaningful involvement of all people, regardless of income, race, color, national origin, Tribal affiliation, or disability, in Agency decision-making and other Federal activities that affect human health and the environment so that people are fully protected from disproportionate and adverse human health and environmental effects (including risks). To help address potential environmental justice issues, the Agency seeks information on any groups or segments of the population who, as a result of their location, cultural practices, or other factors, may have atypical or disproportionate and adverse human health impacts or environmental effects from exposure to the pesticides discussed in this document, compared to the general population.

4. Scope of comments sought. This comment opportunity is limited to the updated proposed mitigation. The Agency is not soliciting comment on any other aspects of the atrazine interim registration review decision other than those specifically identified in the proposed memorandum. The Agency will carefully consider all comments related to the updated mitigation proposal received by the closing date.

II. Background

Registration review is EPA's periodic review of pesticide registrations to ensure that each pesticide continues to satisfy the statutory standard for registration, that is, the pesticide can perform its intended function without unreasonable adverse effects on human health or the environment. Through this program, EPA is ensuring that each pesticide's registration is based on current scientific and other knowledge, including its effects on human health and the environment. EPA may pursue mitigation at any time during the registration review process if it finds that a pesticide has the potential to pose unreasonable adverse effects to human health or the environment.

The registration review docket for a pesticide includes all of the documents related to the registration review of the case. For example, the review opened with a Summary Document, containing a Preliminary Work Plan, for public comment. A Final Work Plan was placed in the docket following public comment on the initial docket. The documents in the dockets describe EPA's rationales for conducting additional risk assessments for the registration review of the pesticide, as well as EPA's subsequent findings and consideration of mitigation measures, public comments, and EPA responses.

III. What action is the Agency taking?

EPA is issuing this updated proposed mitigation memorandum for the atrazine interim registration review decision to: (1) Incorporate the atrazine concentration of 9.7 micrograms per liter (µg/L) that triggers mitigations; and (2) Propose supplemental mitigation measures that are feasible and flexible to protect aquatic communities.

In June 2022, EPA announced proposed revisions to the atrazine interim registration review decision for public comment. In response to comments received on the June 2022 proposal, EPA convened a meeting of the FIFRA Scientific Advisory Panel (SAP) in August 2023 to reconsider a subset of microcosm and mesocosm studies used in the calculation of the water concentration of atrazine that triggers monitoring and/or mitigation to protect the aquatic ecosystem. In July 2024, EPA announced an update to the concentration level to be 9.7 µg/L following the August 2023 SAP meeting.

The updated proposed mitigation for atrazine reflected in the memorandum being released for public comment incorporates the revised level of concern of 9.7 µg/L as well as corrections to exposure modeling and feedback received during the 2022 public comment period. EPA is releasing its updated mitigation proposal to reduce run-off/erosion, which will expand the number of options of mitigation measures growers can choose to implement to reduce potential exposure and risk to aquatic plant communities from atrazine runoff in vulnerable watersheds. The proposed mitigation includes placing mitigations on product labeling where users will be directed to EPA's mitigation menu website at https://www.epa.gov/pesticides/mitigation-menu and to the Bulletins Live! Two system at https://www.epa.gov/endangered-species/bulletins-live-two-view-bulletins; or an equivalent website to be determined.

Background on the registration review program is provided at: https://www.epa.gov/pesticide-reevaluation. Earlier documents related to the registration review of this pesticide are also available in the docket at https://www.regulations.gov/docket/EPA-HQ-OPP-2013-0266.

Authority: 7 U.S.C. 136 et seq.

Dated: November 22, 2024.
Jean Overstreet,
Director, Pesticide Re-Evaluation Division, Office of Pesticide Programs.

[FR Doc. 2024-28459 Filed 12-4-24; 8:45 am]

BILLING CODE 6560-50-P